ELECTION ASSISTANCE COMMISSION

Sunshine Act Meetings

AGENCY: U.S. Election Assistance Commission.

ACTION: Notice; correction.

SUMMARY: The U.S. Election Assistance Commission published a document in the Federal Register on February 28, 2023 regarding the scheduled Public Meeting focusing on list maintenance. The notice contained an incorrect address.

FOR FURTHER INFORMATION CONTACT: Kristen Muthig, Telephone: (202) 897-9285, Email: kmuthig@eac.gov.

SUPPLEMENTARY INFORMATON:

Correction

In the Federal Register of February 28, 2023 in FR Doc. 2023-04198, on page 12669 in the second column, correct the Addresses caption to read:

ADDRESSES: Virtual via Zoom.

The roundtable discussion is open to the public and will be livestreamed on the U.S. Election Assistance Commission YouTube Channel: https://www.youtube.com/channel/UCpN6i0g2rlF4ITWhwvBwwZw.

Amanda Joiner,
Acting General Counsel, U.S. Election Assistance Commission.

[FR Doc. 2023-05267 Filed 3-10-23; 11:15 am]

BILLING CODE P